DEPARTMENT OF LABOR

Employees' Compensation Appeals Board

20 CFR Part 501

RIN 1290-AA37

Rules of Practice and Procedure

AGENCY: Employees' Compensation Appeals Board, Department of Labor.

ACTION: Proposed rule; withdrawal.

SUMMARY: The Department of Labor is withdrawing the proposed rule that accompanied its direct final rule (DFR) that requires electronic filing (e-filing) and electronic service (e-service) for attorneys and lay representatives representing parties in proceedings before the Employees' Compensation Appeals Board (ECAB or the Board) and allows the Board, in its discretion, to hold oral arguments by videoconference.

DATES: As of March 17, 2021, the proposed rule published January 11, 2021, at 86 FR 1831, is withdrawn.

FOR FURTHER INFORMATION CONTACT: Thomas Shepherd, Clerk of the Appellate Boards, at 202-693-6319 or ECAB-Inquiries@dol.gov.

SUPPLEMENTARY INFORMATION: In the concurrent direct final rule (DFR) published at 86 FR 1768, the Department stated that if a significant adverse comment was submitted by February 10, 2021, the Department would publish a timely withdrawal in the Federal Register informing the public that the DFR will not take effect. The Department issued an identical Notice of Proposed Rulemaking (NPRM) on the same day (86 FR 1831). The Department received no comments on the rulemaking. Accordingly, the Department is not proceeding with the proposed rule and is withdrawing it from the rulemaking process. The DFR became effective on February 25, 2021. Additionally, the Department notes that it plans to hold listening sessions during the coming weeks for users to provide feedback on the electronic filing and service system. Information about those sessions will be announced at https://efile.dol.gov.

Milton A. Stewart,
Acting Secretary of Labor.

[FR Doc. 2021-05410 Filed 3-16-21; 8:45 am]

BILLING CODE 4510-31-P